DEPARTMENT OF HEALTH AND HUMAN SERVICES

National Institutes of Health

Center for Scientific Review; Amended Notice of Meeting

Notice is hereby given of a change in the meeting of the Center for Scientific Review Special Emphasis Panel, PAR 19-059: Global Noncommunicable Diseases and Injury Across the Lifespan (R21), March 23, 2020, 8:00 a.m. to 5:00 p.m., at the Hotel Palomar, 2121 P Street NW, Washington, DC 20037, which was published in the Federal Register on February 25, 2020, 85 FR 10708.

The meeting will be held at the National Institutes of Health, 6701 Rockledge Drive, Bethesda, MD 20892. The format of the meeting has been changed to a Video Assisted Meeting. The meeting date and time remain the same. The meeting is closed to the public.

Dated: March 11, 2020.
Ronald J. Livingston, Jr.,
Program Analyst, Office of Federal Advisory Committee Policy.

[FR Doc. 2020-05419 Filed 3-16-20; 8:45 am]

BILLING CODE 4140-01-P